DEPARTMENT OF AGRICULTURE

Forest Service

Revision of the Land Management Plan for El Yunque National Forest

AGENCY: Forest Service, USDA.

ACTION: Notice of approval of the revised land management plan for El Yunque National Forest.

SUMMARY: Sharon Wallace, the Forest Supervisor for El Yunque National Forest, Southern Region, has signed the Record of Decision (ROD) for the Revised Land Management Plan (Forest Plan) for El Yunque National Forest. The final ROD documents the rationale for approving the Forest Plan and is consistent with the Reviewing Officer's response to objections and instructions.

DATES: The Revised Land Managmenent Plan for El Yunque National Forest will become effective 30 days after the publication of this notice of approval in the Federal Register (36 CFR 219.17(a)(1)). To view the final ROD, final environmental impact statement (FEIS), the Revised Land Management Plan, and other related documents, please visit the El Yunque National Forest website at: https://www.fs.usda.gov/detail/elyunque/home/?cid=stelprdb5411382.

A legal notice of approval is also being published in El Yunque National Forest's newspaper of record, El Nuevo Dia. A copy of this legal notice will be posted on the website described above.

FOR FURTHER INFORMATION CONTACT: Further information about the Revised Land Management Plan for El Yunque National Forest can obtained by contacting Pedro Rios, Forest Planning Staff Officer, El Yunque National Forest, at 787-888-1880. Individuals who use telecommunication devices for the deaf (TDD) may call the Federal Information Relay Service (FIRS) at 1-800-877-8339 between 8:00 a.m. and 8:00 p.m., Eastern time, Monday through Friday. Written requests for information may be sent to El Yunque National Forest, Attn: EYNF Plan Revision, HC 01 Box 13490, Rio Grande, PR 00745.

SUPPLEMENTARY INFORMATION: El Yunque National Forest covers approximately 29,000 acres in the northeastern part of Puerto Rico. The Revised Land Management Plan, which was developed pursuant to the 2012 Forest Planning Rule (36 CFR 219), will replace the Land Management Plan approved in 1997. This new, Revised Land Management Plan establishes a strong commitment to provide social opportunities and economic benefits to forest visitors and local communities in eastern Puerto Rico and an all-lands approach to conserving high-priority forest ecosystems. The plan components were developed using best available scientific information and the consideration of fiscal capability.

A draft ROD, Revised Land Management Plan, and FEIS were released in August 2018, and were subject to a pre-decisional objection period. One objection was received containing one issue, and the Reviewing Officer's response to the objection has been signed by the Regional Forester for the Southern Region. The instructions from the Reviewing Officer were incorporated into the ROD. The final ROD to approve the Revised Land Management Plan for El Yunque National Forest has now been signed by the Responsible Official, and is available at the website described above.

Responsible Official

The responsible official for the revision of the land management plan for El Yunque National Forest is Sharon Wallace, Forest Supervisor, El Yunque National Forest, HC 01 Box 13490, Rio Grande, PR 00745.

Dated: May 23, 2019.
Frank R. Beum,
Acting Associate Deputy Chief, National Forest System.

[FR Doc. 2019-11280 Filed 5-29-19; 8:45 am]

BILLING CODE 3411-15-P